DEPARTMENT OF THE INTERIOR

Bureau of Land Management

[NMNM 106003224; NMNM 105953819]

Public Land Order No. 7962; Extension of Public Land Order No. 7625 Gallinas Peak and West Turkey Cone Electronic Site Withdrawal; New Mexico

AGENCY: Bureau of Land Management, Interior.

ACTION: Public land order.

SUMMARY: This order extends the duration of the withdrawal created by Public Land Order (PLO) No. 7625 for an additional 20-year period. On February 17, 2005, PLO No. 7625 withdrew 140 acres of National Forest System Lands in Lincoln County, New Mexico, from location and entry under the United States mining laws, subject to valid existing rights, to protect the Gallinas Peak and West Turkey Cone Electronic Sites for a period of 20 years. The land description in PLO No. 7625 was updated to align with the Bureau of Land Management (BLM) Cadastral Survey's current standards for land description specifications. The withdrawal's location, footprint, and acreage remain unchanged.

DATES: This PLO takes effect February 17, 2025.

FOR FURTHER INFORMATION CONTACT: Jillian Aragon, BLM Project Manager, by email at jgaragon@blm.gov, or by phone (505) 635-9701, Bureau of Land Management, New Mexico State Office, 301 Dinosaur Trail, Santa Fe, New Mexico 87508. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The purpose of the withdrawal extension is to protect the 140-acre electronic sites, identified as the Gallinas Peak Electronic Site and the West Turkey Cone Electronic Site, which are located within the Lincoln National Forest.

Order

By virtue of the authority vested in the Secretary of the Interior by section 204 of the Federal Land Policy and Management Act of 1976, 43 U.S.C. 1714, it is ordered as follows:

1. Subject to valid existing rights, PLO No. 7625 (69 FR 4172), which withdrew 140 acres of National Forest System lands from location and entry under the United States mining laws to protect the USFS-managed Gallinas Peak and West Turkey Cone Electronic Site, is hereby extended for an additional 20-year period. The legal land description was revised to reflect the BLM Cadastral Survey's Specifications for Descriptions of Land. The revised land description is as follows:

New Mexico Principal Meridian, New Mexico

Gallinas Peak Electronic Site

T. 1 S., R.11 E.,

Sec. 4, S½SW¼NW¼SE¼, N½SW¼SE¼, S½NE¼SE¼SE¼, and W½SE¼SE¼;

Sec. 9, NW¼NE¼NE¼.

The area described contains 60 acres.

West Turkey Cone Electronic Site

T. 1 S., R. 11 E.,

Sec. 4, S½SW¼NE¼SW¼, S½SE¼NE¼SW¼, N½SW¼SW¼, N½SW¼SW¼SW¼, N½SE¼SW¼SW¼, and W½NW¼SE¼SW¼;

Sec. 5, S½SW¼NE¼SE¼, S½SE¼NE¼SE¼, E½SE¼SE¼, and N½NW¼SE¼SE¼.

The area described contains 80 acres.

The total areas described aggregate 140 acres, according to the official plat of the survey of the said lands, on file with the BLM.

2. This withdrawal will expire 20 years from the effective date of this order unless, as a result of a review conducted prior to the expiration date pursuant to section 204(f) of the Federal Land Policy and Management Act, 43 U.S.C. 1714(f), the Secretary determines that the withdrawal shall be further extended.

(Authority: 43 U.S.C. 1714)

Doug Burgum,
Secretary of the Interior.

[FR Doc. 2025-02874 Filed 2-19-25; 8:45 am]

BILLING CODE 3411-15-P